DEPARTMENT OF ENERGY

Federal Energy Regulatory Commission

Combined Notice of Filings #1

September 24, 2009.

Take notice that the Commission received the following electric corporate filings:

Docket Numbers: EC09-72-000.

Applicants: MACH Gen, LLC, Merrill Lynch GENCO II, LLC.

Description: Notice of Disposition of Jurisdictional Facilities of Merrill Lynch Genco II, LLC.

Filed Date: 09/23/2009.

Accession Number: 20090923-5050.

Comment Date: 5 p.m. Eastern Time on Wednesday, October 14, 2009.

Take notice that the Commission received the following electric rate filings:

Docket Numbers: ER01-313-011; ER01-424-011.

Applicants: California Independent System Operator Corporation; Pacific Gas and Electric Company.

Description: Second Informational Report of the California Independent System Operator Corporation.

Filed Date: 09/14/2009.

Accession Number: 20090914-5212.

Comment Date: 5 p.m. Eastern Time on Monday, October 5, 2009.

Docket Numbers: ER09-135-004; ER09-134-003; ER09-136-003; ER09-137-003.

Applicants: FirstEnergy Generation Corp.; FirstEnergy Solutions Corp.; FirstEnergy Nuclear Generation Corp.; FirstEnergy Generation Mansfield Unit 1.

Description: FirstEnergy Generation Corp et al. submits Substitute Third Revised Sheet 2 et al. to FERC Electric Tariff, First Revised Volume 1.

Filed Date: 09/21/2009.

Accession Number: 20090924-0023.

Comment Date: 5 p.m. Eastern Time on Tuesday, October 13, 2009.

Docket Numbers: ER09-1689-001.

Applicants: Backyard Farms Energy LLC.

Description: Backyard Farms Energy, LLC submits Amended and Restated Application for authorization to make wholesale sales of energy and capacity at negotiated, market-based rates.

Filed Date: 09/22/2009.

Accession Number: 20090923-0009.

Comment Date: 5 p.m. Eastern Time on Tuesday, October 13, 2009.

Docket Numbers: ER09-1720-000.

Applicants: Tuolumne Wind Project, LLC.

Description: Tuolumne Wind Project, LLC submits request to withdraw the First Revised Sheet 1 to FERC Electric Tariff, Original Volume 1.

Filed Date: 09/18/2009.

Accession Number: 20090921-0063.

Comment Date: 5 p.m. Eastern Time on Friday, October 9, 2009.

Docket Numbers: ER09-1721-000.

Applicants: ISO New England Inc.; New England Power Pool.

Description: ISO New England Inc. et al. submits Fourth Revised Sheet 64A et al. to FERC Electric Tariff 3.

Filed Date: 09/18/2009.

Accession Number: 20090921-0064.

Comment Date: 5 p.m. Eastern Time on Friday, October 9, 2009.

Docket Numbers: ER09-1730-000.

Applicants: WSPP Inc.

Description: WSPP, Inc requests that the Commission amend their Agreement to include Royal Bank of Canada and Windy Flats Partners, LLC as members of WSPP.

Filed Date: 09/22/2009.

Accession Number: 20090922-0084.

Comment Date: 5 p.m. Eastern Time on Tuesday, October 13, 2009.

Docket Numbers: ER09-1731-000.

Applicants: Southern California Edison Company.

Description: Southern California Edison Co. submits the Blythe Solar 1 Project Tie-Line Facilities Agreement and Large Generator Interconnection Agreement etc. with FSE Blythe1, LLC.

Filed Date: 09/22/2009.

Accession Number: 20090922-0085.

Comment Date: 5 p.m. Eastern Time on Tuesday, October 13, 2009.

Docket Numbers: ER09-1736-000.

Applicants: Southwest Power Pool, Inc.

Description: Southwest Power Pool, Inc. submits First Revised Sheet 125 et al. to FERC Electric Tariff, Fifth Revised Volume 1 under ER09-1736.

Filed Date: 09/23/2009.

Accession Number: 20090924-0029.

Comment Date: 5 p.m. Eastern Time on Wednesday, October 14, 2009.

Docket Numbers: ER09-1737-000.

Applicants: ISO New England Inc. & New England Power.

Description: ISO New England, Inc. et al. submits 4th Revised Sheet 7013 et al. to FERC Electric Tariff 3 to extend the expiration date of the Real-Time Price Response Program and Day-Ahead Load Response Program under ER09-1737.

Filed Date: 09/23/2009.

Accession Number: 20090924-0030.

Comment Date: 5 p.m. Eastern Time on Wednesday, October 14, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Kimberly D. Bose,
Secretary.

[FR Doc. E9-23658 Filed 9-30-09; 8:45 am]

BILLING CODE 6717-01-P